DEPARTMENT OF COMMERCE

Foreign-Trade Zones Board

[Docket 10-2003]

Proposed Foreign-Trade Zone—Bowie County, TX; Application and Public Hearing

An application has been submitted to the Foreign-Trade Zones (FTZ) Board (the Board) by the Red River Redevelopment Authority, to establish a general-purpose foreign-trade zone at sites in Bowie County, Texas, adjacent to the Shreveport-Bossier City Customs port of entry. The FTZ application was submitted pursuant to the provisions of the FTZ Act, as amended (19 U.S.C. 81a-81u), and the regulations of the Board (15 CFR part 400). It was formally filed on February 25, 2003. The applicant is authorized to make the proposal under Senate Bill 691 of the 70th Legislature of the State of Texas (Regular Session, 1987), codified as Tex. Rev. Civ. Stat. Ann. Art. 144601.

The proposed zone would be the third general-purpose zone in the Shreveport Customs port of entry area. The existing zones are FTZ 145 in Shreveport, Louisiana (Grantee: Caddo-Bossier Parishes Port Commission, Board Order 370, 53 FR 1503, 1/20/88) and FTZ 234 in Gregg County, Texas (Grantee: Gregg County, Texas, Board Order 1003, 63 FR 63671, 11/16/98).

The proposed zone would consist of two sites covering 684 acres in the Greater Texarkana area of northeastern Texas: Site 1 (524 acres)—Red River Commerce Park (the former Red River Army Depot), Bowie County, Texas, approximately 18 miles west of Texarkana and the Texas-Arkansas border, and, Site 2 (160 acres)—City of Nash Industrial Park, Bowie County, Texas, approximately 15 miles west of Texarkana and the Texas-Arkansas border. Site 1 is owned by the applicant and Site 2 is owned by the Nash Industrial Development Corporation and Bodega Bay Limited.

The application indicates a need for zone services in the Greater Texarkana area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on April 1, 2003, at 9 a.m., at the Bowie County Court House, Commissioners Court Room, 710 James Bowie Drive, New Boston, Texas 75570.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th Street NW., Washington, DC 20005; or

2. Submissions via the U.S. Postal Service: Foreign-Trade Zones Board, U.S. Department of Commerce, FCB—Suite 4100W, 1401 Constitution Avenue NW., Washington, DC 20230.

The closing period for their receipt is May 6, 2003. Rebuttal comments in response to material submitted during the foregoing period may be submitted during the subsequent 15-day period (to May 21, 2003).

A copy of the application and accompanying exhibits will be available for public inspection at the Office of the Foreign-Trade Zones Board's Executive Secretary at the first address listed above, and at the Office of the Red River Redevelopment Authority, 107 Chapel Lane, New Boston, Texas 75570.

Dated: February 28, 2003.
Dennis Puccinelli,
Executive Secretary.

[FR Doc. 03-5498 Filed 3-6-03; 8:45 am]

BILLING CODE 3510-DS-P